DEPARTMENT OF THE INTERIOR

Minerals Management Service

Outer Continental Shelf (OCS), Alaska OCS Region

AGENCY: Minerals Management Service, Interior.

ACTION: Notice of the availability of the draft environmental impact statement (EIS) for proposed oil and gas lease sales in Cook Inlet, Alaska.

SUMMARY: MMS announces the availability of the draft EIS prepared by MMS for proposed OCS Lease Sales 191 and 199 offshore Cook Inlet, Alaska.

DATES: Comments on the draft EIS are due February 11, 2003. Public hearings will be held in Alaska: Anchorage, January 16, 2003; Seldovia, January 21; Homer, January 23; Soldotna/Kenai, January 24; telephone call-in to MMS Anchorage, January 28.

SUPPLEMENTARY INFORMATION: This draft EIS assesses two sales in the Proposed Final 2002-2007 5-Year Oil and Gas Leasing Program for the Cook Inlet OCS Planning Area. Sale 191 is scheduled for 2004 and Sale 199 for 2006. Federal Regulations (40 CFR 1502.4) suggest analyzing similar or like proposals in a single EIS. The proposal analyzed for each sale is to offer 517 whole or partial lease blocks in the Cook Inlet OCS Planning Area, covering about 2.5 million acres (about 1 million hectares). The proposed sale area is seaward of the State of Alaska submerged lands boundary, extending from 3 miles to approximately 30 miles offshore and to water depths more than 650 feet. It extends from below Kalgin Island south to approximately Shuyak Island.

EIS availability: Persons interested in reviewing the draft EIS “OCS EIS/EA, MMS 2002-065” (Volumes I and II) can contact the MMS Alaska OCS Regional Office. The documents are available for public inspection between the hours of 7:45 a.m. and 4:30 p.m., Monday through Friday at: Minerals Management Service, Alaska OCS Region, Resource Center, 949 East 36th Avenue, Room 330, Anchorage, Alaska 99508-4363, telephone: (907) 271-6070 or (907) 271-6621 or toll free at 1-800-764-2627. Requests may also be sent to MMS at akwebmaster@mms.gov. You may obtain single copies of the draft EIS, the Executive Summary, or a CD/ROM version, from the same address. You may also look at copies of the draft EIS in the following libraries:

Alaska Pacific University, Academic Support Center Library, 4101 University Drive, Anchorage, Alaska;

Alaska Resources Library and Information Service (ARLIS), U.S. Department of the Interior, 3150 C Street, Suite 100, Anchorage, Alaska;

Alaska State Library, Government Publications, State Office Building, 333 Willoughby, Juneau, Alaska;

Anchor Point Public Library, 73405 Milo Fitz Avenue, Anchor Point, Alaska;

Canadian Joint Secretariat Librarian, Inuvikon NT, Canada;

Chiniak Public Library, 42650 Chiniak Highway, Chiniak, Alaska;

Department of Indian and Northern Affairs, Yellowknife, NT, Canada;

Fairbanks North Star Borough, Noel Wien Library, 1215 Cowles Street, Fairbanks, Alaska;

Homer Public Library, 141 West Pioneer Avenue, Homer, Alaska;

Jessie Wakefield Memorial Library, 207 Spruce Drive, Port Lions, Alaska;

Johnson Memorial Library, 319 Lower Mill Bay Road, Kodiak, Alaska;

Juneau Public Library, 292 Marine Way, Juneau, Alaska;

Kachemak Bay Campus Library, 533 Pioneer Avenue, Homer, Alaska;

Kasilof Public Library, Mile 110 Sterling Highway, Kasilof, Alaska;

Kenai Community Library, 163 Main Street Loop, Kenai, Alaska;

Kenai Peninsula College Library, 34820 College Drive, Soldotna, Alaska;

Kodiak College Library, 117 Benny Benson Drive, Kodiak, Alaska;

Ninilchik Community Library, 15850 Sterling Highway, Ninilchik, Alaska;

North Slope Borough School District, Library/Media Center, Barrow, Alaska;

Northern Alaska Environmental Center Library, 218 Driveway, Fairbanks, Alaska;

Old Harbor Library, Three Saints Avenue, Old Harbor, Alaska;

Ouzinkie Tribal Media Center, 110 Third Street, Ouzinkie, Alaska;

Seldovia Public Library, 260 Seldovia Street, Seldovia, Alaska;

Soldotna Public Library, 235 Binkley Street, Soldotna, Alaska;

U.S. Army Corps of Engineers Library, U.S. Department of Defense, Elmendorf Air Force Base, Anchorage, Alaska;

U.S. Environmental Protection Agency, Region 10 Library, 1200 6th Avenue, OMP-104, Seattle, Washington;

U.S. Fish and Wildlife Service Library, 1011 East Tudor Road, Anchorage, Alaska;

University of Alaska Anchorage, Consortium Library, 3211 Providence Drive, Anchorage, Alaska;

University of Alaska Fairbanks, Elmer E. Rasmuson Library, Government Documents, 310 Tanana Drive, Fairbanks, Alaska;

University of Alaska Fairbanks, Geophysical Institute, Government Documents, Fairbanks, Alaska;

University of Alaska Fairbanks, Institute of Arctic Biology, 311 Irving Building, Fairbanks, Alaska;

University of Alaska, Southeast, 11120 Glacier Highway, Juneau, Alaska;

Valdez Consortium Library, 200 Fairbanks Street, Valdez, Alaska;

Z.J. Loussac Library, 3600 Denali Street, Anchorage, Alaska.

Public Hearings: Public hearings will be held to receive comments on the draft EIS. The hearings will provide us with additional information that will help in evaluating the potential effects of the proposed leasing program. Hearings will be held in Anchorage, Seldovia, Homer, and Kenai/Soldotna, and by telephone on the following dates and times:

Anchorage, Alaska—January 16, 2003, Minerals Management Service, Conference Room, 949 East 36th Avenue, 3rd Floor, 4 p.m. to 6:30 p.m.;

Seldovia, Alaska—January 21, 2003, Seldovia Community Center Multi-Purpose Room, 260 Seldovia Street, 7 p.m. to 9 p.m.;

Homer, Alaska—January 23, 2003, Homer City Council Chambers, 491 East Pioneer Way, 7 p.m. to 9 p.m.;

Soldonta/Kenai, Alaska—January 24, 2003, Merit Inn Banquet Room, South Willow Street, 7 p.m. to 9 p.m.

By telephone—January 28, 2003, 4:30 p.m. to 6:30 p.m., toll free 1-800-764-2627.

Village residents who are not able to attend one of the four on-site public meetings are especially encouraged to submit comments by telephone.

If you wish to testify at a hearing, you may register prior to the hearing to schedule a preferred time by contacting the Alaska OCS Region at the above address or Dr. James Lima at (907) 271-6690 or toll free 1-800-764-2627 not later than 5 days prior to the hearing date. Every effort will be made to accommodate individuals who have not pre-registered to testify. Time limitations may make it necessary to limit the length of oral statements to 10 minutes. You may supplement an oral statement with a more complete written statement and submit it to a hearing official at the hearing or by mail until February 11, 2003. Each hearing will recess when all speakers have had an opportunity to testify. If after the recess, no additional speakers appear, we will adjourn the hearing. Written statements submitted at a hearing will be considered part of the hearing record. If you are unable to attend the hearing, or if you prefer, you may submit written statements at the address below.

Written Comments: The MMS requests interested parties to submit their written comments on this draft EIS to the Regional Director, Alaska OCS Region, Minerals Management Service, 949 East 36th Avenue, Room 308, Anchorage, Alaska 99509-4663 or by electronic mail to AKEIS@MMS.GOV. Our practice is to make comments, including names and home addresses of respondents available for public review. An individual commenter may ask that we withhold their name, home address, or both from the public record, and we will honor such a request to the extent allowable by law. If you submit comments and wish us to withhold such information, you must state so prominently at the beginning of your submission. We will not consider anonymous comments, and we will make available for inspection in their entirety all comments submitted by organizations or businesses or by individuals identifying themselves as representatives or organizations or businesses. The comment period ends on February 11, 2003.

Dated: November 6, 2002.
Thomas A. Readinger,
Associate Director for Offshore Minerals Management.
Approved: November 12, 2002.
Willie R. Taylor,
Director, Office of Environmental, Policy and Compliance.

[FR Doc. 02-31185 Filed 12-10-02; 8:45 am]

BILLING CODE 4310-MR-P